DEPARTMENT OF TRANSPORTATION

Surface Transportation Board

[Docket No. AB 290 (Sub-No. 351X)]

Norfolk Southern Railway Company—Abandonment Exemption—in Botetourt County, VA

On December 16, 2013, Norfolk Southern Railway Company (NSR) filed with the Surface Transportation Board (Board) a petition under 49 U.S.C. 10502 for exemption from the provisions of 49 U.S.C. 10903 to abandon approximately 0.71 miles of rail line, consisting of part of the Cloverdale Branch and extending from milepost C 8.19 to milepost C 8.90 in Troutville, Botetourt County, Va. The line traverses United States Postal Service Zip Code 24175. There is one station on the line that will remain open to serve the remainder of the Cloverdale Branch.¹

¹ NSR states that there is one shipper on the line, Roanoke Cement Company LLC (Roanoke). According to NSR, Roanoke has requested abandonment to allow expansion of its facilities, and Roanoke will continue to be served by NSR post-abandonment. NSR seeks expedited consideration in this proceeding to allow Roanoke to move forward with its plans as soon as possible. This request will be addressed in the final decision.

NSR states that, based on information in its possession, the line does not contain federally granted rights-of-way. Any documentation in NSR's possession will be made available promptly to those requesting it.

The interest of railroad employees will be protected by the conditions set forth in Oregon Short Line Railroad—Abandonment Portion Goshen Branch Between Firth & Ammon, in Bingham & Bonneville Counties, Idaho, 360 I.C.C. 91 (1979).

By issuing this notice, the Board is instituting an exemption proceeding pursuant to 49 U.S.C. 10502(b). A final decision will be issued by April 4, 2014.

Any offer of financial assistance (OFA) under 49 CFR 1152.27(b)(2) will be due no later than 10 days after service of a decision granting the petition for exemption. Each OFA must be accompanied by a $1,600 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than January 23, 2014. Each trail use request must be accompanied by a $250 filing fee. See 49 CFR 1002.2(f)(27). However, NSR states that, because it seeks abandonment to allow expansion of Roanoke's facilities, NSR is unwilling to negotiate interim trail use.

All filings in response to this notice must refer to Docket No. AB 290 (Sub-No. 351X) and must be sent to: (1) Surface Transportation Board, 395 E Street SW., Washington, DC 20423-0001; and (2) Robert A. Wimbish, Baker & Miller PLLC, 2401 Pennsylvania Avenue NW., Suite 300, Washington, DC 20037. Replies to the petition are due on or before January 23, 2014.

Persons seeking further information concerning abandonment procedures may contact the Board's Office of Public Assistance, Governmental Affairs and Compliance at (202) 245-0238 or refer to the full abandonment or discontinuance regulations at 49 CFR pt. 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who comment during its presentation. Other interested persons may contact OEA to obtain a copy of the EA (or EIS). EAs in these abandonment proceedings normally will be made available within 60 days of the filing of the petition. The deadline for submission of comments on the EA generally will be within 30 days of its service.

Board decisions and notices are available on our Web site at www.stb.dot.gov.

Decided: December 30, 2013.
By the Board, Rachel D. Campbell, Director, Office of Proceedings.
Derrick Gardner,
Clearance Clerk.

[FR Doc. 2013-31466 Filed 1-2-14; 8:45 am]

BILLING CODE 4915-01-P